DEPARTMENT OF TRANSPORTATION

Federal Aviation Administration

14 CFR Part 39

[Docket No. FAA-2006-26046; Directorate Identifier 2006-NM-172-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to adopt a new airworthiness directive (AD) for certain Bombardier Model CL-600-2B19 (Regional Jet Series 100 & 440) airplanes. This proposed AD would require inspecting for discrepancies of the activation mechanism of certain chemical oxygen generators, and corrective action if necessary. This proposed AD results from several incidents, on certain airplane models, of incorrect installation of the release pin into the safety pin hole of the activation mechanism of the chemical oxygen generator; this resulted in failure to activate the chemical oxygen generator when required. A separate incident occurred on a different airplane model during deployment of the cabin oxygen system, which resulted in failure of the release pin to activate the oxygen generator at a flight attendant station. We are proposing this AD to prevent failure of the activation mechanism of the chemical oxygen generator, which could result in the unavailability of supplemental oxygen and possible incapacitation of passengers and cabin crew during an in-flight decompression.

DATES: We must receive comments on this proposed AD by November 13, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Dan Parillo, Aerospace Engineer, Systems and Flight Test Branch, ANE-172, FAA, New York Aircraft Certification Office, 1600 Stewart Avenue, Suite 410, Westbury, New York 11590; telephone (516) 228-7305; fax (516) 794-5531.

SUPPLEMENTARY INFORMATION:

Comments Invited

We invite you to submit any relevant written data, views, or arguments regarding this proposed AD. Send your comments to an address listed in the ADDRESSES section. Include the docket number “FAA-2006-26046; Directorate Identifier 2006-NM-172-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Transport Canada Civil Aviation (TCCA), which is the airworthiness authority for Canada, notified us that an unsafe condition may exist on certain Bombardier Model CL-600-2B19 (Regional Jet Series 100 & 440) airplanes. TCCA advises that several incidents, on certain Bombardier airplane models, of incorrect installation of the release pin into the safety pin hole of the activation mechanism occurred in certain chemical oxygen generators; this resulted in failure to activate the chemical oxygen generators when required. A separate incident occurred on a Model CL-600-2C10 airplane during deployment of the cabin oxygen system, due to failure of the release pin to activate the oxygen generator at a flight attendant station. Investigation revealed that the release pin was not aligned with the lanyard tube in the mask container module, preventing activation of the oxygen generator. This condition, if not corrected, could result in the unavailability of supplemental oxygen and possible incapacitation of passengers and cabin crew during an in-flight decompression.

The design of the activation mechanism of the oxygen generator of the flight attendant and passenger service units on certain Model CL-600-2B19 airplanes is similar to the design of the activation mechanism installed on certain Model CL-600-2C10 airplanes. Therefore, all of these models may be subject to the identified unsafe condition. Further rulemaking is currently in process to address this unsafe condition for Model CL-600-2C10 airplanes.

Relevant Service Information

Bombardier has issued Alert Service Bulletin A601R-35-014, dated September 25, 2003. The service bulletin describes procedures for inspecting for discrepancies of the release pin in the lanyard tube in the mask container module of the activation (firing) mechanism in the chemical oxygen generator of each flight attendant and lavatory oxygen panel, and each passenger service unit of the passenger oxygen system; and corrective action if necessary. The discrepancies include misalignment of the release pin and failure of the pin to engage with the lanyard tube. The corrective action includes aligning the release pin and engaging it to the lanyard tube.

Bombardier has also issued Service Bulletin 601R-35-016, dated September 8, 2005. The service bulletin describes procedures for inspecting for discrepancies of the release pin of the activation mechanism of the chemical oxygen generator, and corrective action if necessary. The discrepancies include incorrect installation of the release pin into the activation mechanism. The corrective action includes correctly installing the release pin.

Service Bulletin 601R-35-016 refers to B/E Aerospace Service Bulletin 117003-35-4, dated March 29, 2001, as an additional source of service information for accomplishing the inspection and corrective action.

Accomplishing the actions specified in the Bombardier service information is intended to adequately address the unsafe condition. TCCA mandated the service information and issued Canadian airworthiness directive CF-2006-11, dated May 31, 2006, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for airplanes of this type design that are certificated for operation in the United States.

Therefore, we are proposing this AD, which would require accomplishing the actions specified in the service information described previously.

Clarification of Inspection Terminology

In this proposed AD, the “detailed visual inspection” specified in the Canadian airworthiness directive is referred to as a “detailed inspection.” We have included the definition for a detailed inspection in a note in the proposed AD.

Costs of Compliance

This proposed AD would affect about 145 airplanes of U.S. registry.

The inspection proposed in Service Bulletin A601R-35-014 would take about 3 work hours per airplane, at an average labor rate of $80 per work hour. Based on these figures, the estimated cost of the proposed AD for U.S. operators is $34,800, or $240 per airplane.

The inspection proposed in Service Bulletin 601R-35-016 would take about 1 work hour per airplane, at an average labor rate of $80 per work hour. Based on these figures, the estimated cost of the proposed AD for U.S. operators is $11,600, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bombardier, Inc. (Formerly Canadair): Docket No. FAA-2006-26046; Directorate Identifier 2006-NM-172-AD.

Comments Due Date

(a) The FAA must receive comments on this AD action by November 13, 2006.

Affected ADs

(b) None.

Applicability

(c) This AD applies to Bombardier Model CL-600-2B19 (Regional Jet Series 100 & 440) airplanes, certificated in any category; as identified in Bombardier Alert Service Bulletin A601R-35-014, dated September 25, 2003; and Bombardier Service Bulletin 601R-35-016, dated September 8, 2005.

Unsafe Condition

(d) This AD results from several incidents, on certain airplane models, of incorrect installation of the release pin into the safety pin hole of the activation mechanism of the chemical oxygen generator; this resulted in failure to activate the chemical oxygen generator when required. A separate incident occurred on a different airplane model during deployment of the cabin oxygen system, and resulted in failure of the release pin to activate the oxygen generator at a flight attendant station. We are issuing this AD to prevent failure of the activation mechanism of the chemical oxygen generator, which could result in the unavailability of supplemental oxygen and possible incapacitation of passengers and cabin crew during an in-flight decompression.

Compliance

(e) You are responsible for having the actions required by this AD performed within the compliance times specified, unless the actions have already been done.

Inspections/Corrective Action

(f) Do the detailed inspections for discrepancies of certain chemical oxygen generators of each flight attendant and lavatory oxygen panel, as applicable, and each passenger service unit of the passenger oxygen system, as specified in paragraphs (f)(1) and (f)(2) of this AD, as applicable.

(1) For airplanes identified in paragraph 1.A. of Bombardier Alert Service Bulletin A601R-35-014, dated September 25, 2003: Within 550 flight hours after the effective date of this AD, do a one-time inspection for correct alignment and engagement of the release pin with the lanyard tube in the mask container module of the activation (firing) mechanism in the chemical oxygen generator by doing all the actions, including all applicable corrective actions, in accordance with the Accomplishment Instructions of Bombardier Alert Service Bulletin A601R-35-014, dated September 25, 2003. Do all applicable corrective actions before further flight.

(2) For airplanes identified in paragraph 1.A. of Bombardier Service Bulletin 601R-35-016, dated September 8, 2005: Within 1,100 flight hours after the effective date of this AD; do a one-time inspection for correct installation of the release pin of the activation mechanism of the chemical oxygen generator, by doing all the actions, including all applicable corrective actions, in accordance with the Accomplishment Instructions of Bombardier Service Bulletin 601R-35-016, dated September 8, 2005. Do all applicable corrective actions before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: Bombardier Service Bulletin 601R-35-016, dated September 8, 2005, refers to B/E Aerospace Service Bulletin 117003-35-4, dated March 29, 2001, as an additional source of service information for accomplishing the inspection and corrective action specified in paragraph (f) of this AD.

Alternative Methods of Compliance (AMOCs)

(g)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Canadian airworthiness directive CF-2006-11, dated May 31, 2006, also addresses the subject of this AD.

Issued in Renton, Washington, on October 3, 2006.
Kalene C. Yanamura,
Acting Manager, Transport Airplane Directorate, Aircraft Certification Service.

[FR Doc. E6-16881 Filed 10-11-06; 8:45 am]

BILLING CODE 4910-13-P